DEPARTMENT OF THE INTERIOR

Bureau of Land Management

[LLNVS01000. L51010000.ER0000. LVRWF1906420. 19X; N-90788; MO#4500146813]

Notice of Availability for the Final Environmental Impact Statement for the Yellow Pine Solar Project in Clark County, NV

AGENCY: Bureau of Land Management, Interior.

ACTION: Notice of availability.

SUMMARY: In accordance with the National Environmental Policy Act of 1969, as amended, the Bureau of Land Management (BLM) has prepared a Final Environmental Impact Statement (EIS) for the Yellow Pine Solar Project and by this notice is announcing its availability.

DATES: The BLM will not issue a final decision on the proposal for a minimum of 30 days from the date that the Environmental Protection Agency publishes its notice in the Federal Register.

ADDRESSES: Copies of the Final EIS for the Yellow Pine Solar Project are available through the ePlanning program: https://eplanning.blm.gov/eplanning-ui/project/81665/510.

FOR FURTHER INFORMATION CONTACT: Whitney Wirthlin, Acting Energy & Infrastructure Project Manager, telephone 702-515-5284; address 4701 North Torrey Pines Drive, Las Vegas, Nevada 89130-2301; email blm_nv_sndo_yellowpine@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: This Final EIS addresses two separate but connected applications submitted to the BLM Las Vegas Field Office. First, Yellow Pine Solar, LLC applied for a right-of-way (ROW) on public land to construct, operate and maintain a proposed solar energy generation station and ancillary facilities including battery storage, known as the Yellow Pine Solar Facility. Second, GridLiance West, LLC applied for a ROW on public land to construct, operate and maintain a GridLiance West 230-kilovolt (kV) Trout Canyon Substation and associated 230-kV transmission line. These two applications are collectively known as the Yellow Pine Solar Project.

The proposed Yellow Pine Solar Project is located approximately 10 miles southeast of Pahrump and approximately 32 miles west of Las Vegas in Clark County, Nevada. The Yellow Pine Solar Project would be located on approximately 3,000 acres of BLM managed public land.

The Final EIS analyzed the direct, indirect, and cumulative environmental impacts of the proposed action and alternatives. The Final EIS analyzed the Proposed Action, the Modified Layout Alternative, the Mowing Alternative, and the No Action Alternative. All of the analysis involves development on approximately 3,000 acres of public land; however, each action/alternative differs in how the facility is constructed. The Proposed Action would be divided into four unique sub-areas to avoid three large washes that cross the study area. The Proposed Action would involve solar development utilizing site preparation methods which include clearing vegetation to a height of no more than three inches within the solar arrays. Areas within the solar arrays that contain large shrubs, such as creosote bush, would also be tilled to remove stumps. The Modified Layout would involve one combined project area on the west side of the project study area to increase space between the project and the Tecopa Road, State Route 160 and the Stump Springs Desert Tortoise Translocation Area. The Mowing Alternative is a construction methods alternative that may be applied to either site layout. Under the Mowing Alternative, vegetation would be mowed at a height of 18 to 24 inches to address concerns related to the loss of topsoil, vegetation, and seedbanks. No tilling would occur under the Mowing Alternative. The No Action Alternative would be a continuation of existing conditions.

The Draft EIS for the Yellow Pine Solar Project was available for review during a 45-day comment period beginning March 20, 2020 (85 FR 16125). The BLM received a total of 90 submissions containing 512 individual comments. The comments received were submitted by individuals, governmental agencies, tribes, and other organizations. Key issues raised during the public comment period included potential biological, cultural, tribal, soils, vegetation, hydrological, visual and recreational resource impacts, fire risk/hazard, project alternatives, project design features/mitigation, and cumulative effects. Comments on the Draft EIS were considered and incorporated as appropriate into the Final EIS. The Final EIS includes the revisions made to the Draft EIS to address the comments submitted, including incorporating recommendations from scientific literature and agency funded research to provide additional analysis and documentation on potential impacts and benefits to soils and vegetation under the mowing alternative. Responses to all comments are located in Appendix I of the Final EIS.

The BLM continues to consult with Indian tribes on a government-to-government basis in accordance with Executive Order 13175 and other policies. Tribal concerns, including impacts to Indian trust assets and potential impacts to cultural resources, will be given due consideration.

Following a 30-day Final EIS availability and review period, a Record of Decision (ROD) would be issued. The decision reached in the ROD is subject to appeal at the Interior Board of Land Appeals. The 30-day appeal period begins with the issuance of the ROD.

(Authority: 40 CFR 1506.6, 40 CFR 1506.10)

Angelita Bulletts,
District Manager, Southern Nevada District.

[FR Doc. 2020-19541 Filed 9-3-20; 8:45 am]

BILLING CODE 4310-HC-P